DEPARTMENT OF DEFENSE

Department of the Army; Corps of Engineers

Intent To Prepare a Supplemental Environmental Impact Statement for the Route 460 Location Study From Prince George County to the City of Suffolk, Virginia

AGENCY: Department of the Army, U.S. Army Corps of Engineers, DOD.

ACTION: Notice; correction.

SUMMARY: The email address listed for Alice Allen-Grimes under the FOR FURTHER INFORMATION CONTACT section of the notice published in the Federal Register on Friday, December 27, 2013 (78 FR 78948) was incorrect. The email address should read as follows: alice.w.allen-grimes@usace.army.mil.

FOR FURTHER INFORMATION CONTACT: Alice Allen-Grimes, email: Alice.W.Allen-Grimes@usace.army.mil; (757) 201-7219.

SUPPLEMENTARY INFORMATION: None.

Brenda S. Bowen,
Alternate Army Federal Register Liaison Officer.

[FR Doc. 2014-00152 Filed 1-8-14; 8:45 am]

BILLING CODE 3720-58-P